DEPARTMENT OF STATE

[Public Notice 5464]

Rescission of Determination Regarding Libya

In accordance with section 6(j) of the Export Administration Act of 1979 (50 U.S.C. App. 2405(j)), and as continued in effect by Executive Order 13222 of August 17, 2001, I hereby rescind the Determination of December 29, 1979 regarding Libya (Public Notice 1264). This action is based upon the considerations contained in the memorandum accompanying Presidential Determination No. 2006-14 of May 12, 2006, [71 FR 31909]

This rescission shall also satisfy the provisions of section 620A(c) of the Foreign Assistance Act of 1961, Public Law 87-195, as amended (22 U.S.C. 2371(c)), and section 40(f) of the Arms Export Control Act, Public Law 90-629, as amended (22 U.S.C. 2780(f)).

Dated: June 30, 2006.
Condoleezza Rice,
Secretary of State, Department of State.

[FR Doc. E6-11046 Filed 7-12-06; 8:45 am]

BILLING CODE 4710-31-P